DEPARTMENT OF EDUCATION

National Assessment Governing Board

Committee and Quarterly Board Meetings

AGENCY: National Assessment Governing Board, Department of Education.

ACTION: Notice of open and closed meetings.

SUMMARY: This notice sets forth the agenda, time, and instructions to access the National Assessment Governing Board's (hereafter referred to as Governing Board) standing committee meetings and quarterly Governing Board meeting. This notice provides information to members of the public who may be interested in attending the meetings and/or providing written comments related to the work of the Governing Board. Notice of the meetings is required under section 1009(a)(2) of 5 U.S.C. chapter 10 (Federal Advisory Committees). The meetings will be held either in person and/or virtually, as noted below. Members of the public must register in advance to attend the meetings virtually. A registration link will be posted on the Governing Board's website, www.nagb.gov, five (5) business days prior to each meeting.

DATES: The Quarterly Board Meeting will be held on the following dates:

• February 29, 2024, from 1:00 p.m. to 5:30 p.m., CST

• March 1, 2024, from 8:00 a.m. to 3:00 p.m., CST

ADDRESSES: Hermitage Hotel, 231 6th Avenue North, Nashville, TN 37219.

FOR FURTHER INFORMATION CONTACT: Angela Scott, Designated Federal Officer (DFO) for the Governing Board, 800 North Capitol Street NW, Suite 825, Washington, DC 20002, telephone: (202) 357-7502, fax: (202) 357-6945, email: Angela.Scott@ed.gov.

SUPPLEMENTARY INFORMATION:

Statutory Authority and Function: The Governing Board is established under the National Assessment of Educational Progress Authorization Act (20 U.S.C. 9621). Information on the Governing Board and its work can be found at www.nagb.gov.

[1] Information on minimum sample size requirements for reporting NAEP data is available here: https://nces.ed.gov/nationsreportcard/tdw/analysis/summary_rules_minimum.aspx.

The Governing Board formulates policy for the National Assessment of Educational Progress (NAEP) administered by the National Center for Education Statistics (NCES). The Governing Board's responsibilities include:

(1) selecting the subject areas to be assessed; (2) developing appropriate student achievement levels; (3) developing assessment objectives and testing specifications that produce an assessment that is valid and reliable, and are based on relevant widely accepted professional standards; (4) developing a process for review of the assessment which includes the active participation of teachers, curriculum specialists, local school administrators, parents, and concerned members of the public; (5) designing the methodology of the assessment to ensure that assessment items are valid and reliable, in consultation with appropriate technical experts in measurement and assessment, content and subject matter, sampling, and other technical experts who engage in large scale surveys; (6) measuring student academic achievement in grades 4, 8, and 12 in the authorized academic subjects; (7) developing guidelines for reporting and disseminating results; (8) developing standards and procedures for regional and national comparisons; (9) taking appropriate actions needed to improve the form, content use, and reporting of results of an assessment; and (10) planning and executing the initial public release of NAEP reports.

Standing Committee Meetings

The Governing Board's standing committees will meet to conduct regularly scheduled work. Standing committee meeting agendas and meeting materials will be posted on the Governing Board's website, www.nagb.gov, no later than five (5) business days prior to the meetings. For the virtual standing committee meetings, a registration link will be posted on www.nagb.gov five (5) business days prior to the meetings. Registration is required to join the meetings virtually. Minutes of prior standing committee meetings are available at https://www.nagb.gov/governing-board/quarterly-board-meetings.html.

Standing Committee Meetings

Tuesday, February 13, 2024

Executive Committee (Virtual)

3:30 p.m.-4:00 p.m. (EST), Open Session

4:00 p.m.-5:00 p.m. (EST), Closed Session

The Executive Committee will meet in open session on Tuesday, February 13, 2024, from 3:30-4:00 p.m. to begin working to update the Board's Strategic Vision. It will meet in closed session from 4:00-5:00 p.m. to discuss the NAEP budget and contracts. The latter session must be closed to the public because the discussions pertain to the federal budget and acquisition process. These discussions must be kept confidential to maintain the integrity of the federal budgeting and acquisition process. Such matters are protected by exemption 9(B) of the Government in the Sunshine Act, 5 U.S.C. 552b.

Tuesday, February 20, 2024

Reporting and Dissemination Committee (Virtual)

11 a.m.-1 p.m. (EST), Open Session

The Reporting and Dissemination Committee will meet in open session on Tuesday, February 20, 2024, from 11 a.m. to 1 p.m. The committee will discuss progress made on implementing the Governing Board's communications strategy and how socioeconomic status will be reported in the NAEP 2024 data.

Wednesday, February 28, 2024

Nominations Committee (In-Person Meeting)

2:15 p.m.-3:30 p.m. (CST), Closed Session

The Nominations Committee will meet in closed session on Wednesday, February 28, 2024, from 2:15 p.m.-3:30 p.m., at the Hermitage Hotel, 231 6th Avenue N, Nashville, TN 37219. The committee will review and discuss nominees for 2024 Governing Board vacancies and finalize recommendations for submission to the Governing Board for action. These discussions will involve the disclosure of information of a personal nature where disclosure would constitute a clearly unwarranted invasion of personal privacy. Such matters are protected by exemption 6 of the Government in the Sunshine Act, 5 U.S.C. 552b.

Monday, March 11, 2024

Committee on Standards, Design and Methodology (Virtual)

4 p.m.-5 p.m. (EDT), Closed Session

5 p.m.-6 p.m. (EDT), Open Session

The Committee on Standards, Design and Methodology will meet on Monday, March 11, 2024, from 4 p.m.-6 p.m. From 4 p.m. to 5 p.m., the committee will meet in closed session to receive a presentation by NCES regarding the use of rolling averages to report on subgroups with small sample sizes. This session will be closed because NCES will present data from small subgroups that are not reported out publicly because their sample sizes do not meet minimum thresholds [1] to permit valid interpretations, and they may also pose privacy risks. Public disclosure of this information would significantly impede the implementation of the NAEP assessment program if conducted in open session. Such matters are protected by exemption 9(B) of the Government in the Sunshine Act, 5 U.S.C. 552b. From 5 p.m. to 6 p.m., the committee will meet in open session, where the committee chair will provide updates on achievement levels activities and seek input on a report currently under development to synthesize NAEP Achievement Levels validity evidence and present the appropriate claims that can be made by them.

Friday, March 15, 2024

Assessment Development Committee (Virtual)

3:30 p.m.-4:30 p.m. (EDT), Open Session

The Assessment Development Committee will meet in open session on Friday, March 15, 2024, from 3:30 p.m.-4:30 p.m. The committee will review contextual variables from the NAEP Science assessment and briefly hear about other updates on committee work.

Quarterly Governing Board Meeting

The plenary sessions of the Governing Board's March 2024 quarterly meeting will be held on the following dates and times:

Thursday, February 29, 2024

1:00 p.m.-5:30 p.m. (CST) (Hybrid Meeting), Open Session

On Thursday, February 29, 2024, the plenary session of the quarterly Governing Board meeting will convene in open session from 1:00 p.m.-5:30 p.m. Beverly Perdue, Chair of the Governing Board, will welcome members, followed by a motion to approve the February 29-March 1, 2024, quarterly Governing Board meeting agenda and minutes from the November 16-17, 2023, Governing Board meeting. From 1:15 p.m. to 1:30 p.m., the Honorable Bill Lee, Governor of Tennessee will welcome the Governing Board to Tennessee. From 1:30 p.m. to 2 p.m., Lesley Muldoon, Executive Director of the Governing Board, will update members on ongoing work, followed by updates from NCES Commissioner, Peggy Carr from 2 p.m.-2:30 p.m., and Mark Schneider, IES Director from 2:30 p.m.-3 p.m. Thereafter, from 3 p.m.-3:30 p.m., the Board will review the priorities and progress of the current strategic vision. Following a ten-minute break, the Governing Board will meet in small groups from 3:40-4:50 p.m. to discuss updates to the strategic vision. From 5 p.m. to 5:30 p.m., the Governing Board will reconvene and debrief on the small group discussions. The Thursday, February 29, 2024, session of the Governing Board meeting will adjourn at 5:30 p.m.

Friday, March 1, 2024

8:00 a.m.-10:00 a.m. (CST) (Hybrid Meeting), Closed Session

10:10 a.m.-2:00 p.m. (CST) (Hybrid Meeting), Open Session

2:00 p.m.-3:00 p.m. (CST) (Hybrid Meeting), Closed Session

On Friday, March 1, 2024, the Governing Board will convene in closed session from 8 a.m. to 10 a.m. From 8 a.m. to 9 a.m., the Governing Board will discuss the slate of nominees for 2024 Governing Board vacancies. This session must be closed because it will involve the disclosure of information of a personal nature where disclosure would constitute a clearly unwarranted invasion of personal privacy. As such, the discussions are protected by exemption 6 of the Government in the Sunshine Act, 5 U.S.C. 552b. From 9 a.m. to 10 a.m., the Governing Board will receive an update on the NAEP Budget from Peggy Carr, Commissioner, NCES, and Dan McGrath, Delegated Authority of Associate Commissioner, NCES. This session must be closed because discussions pertain to the federal budget and acquisition process. Public disclosure of this confidential information would significantly impede implementation of the NAEP assessment program if conducted in open session. Such matters are protected by exemption 9(B) of the Government Sunshine Act, 5 U.S.C. 552b.

Following a ten-minute break, the Governing Board will meet in open session from 10:10 a.m. to 2 p.m. From 10:10 a.m. to 10:15 a.m., the Board will take action on the 2024 Slate of Governing Board Nominees that will be sent to the U.S. Secretary of Education for consideration for appointment in categories where member terms have expired. From 10:15 a.m. to 11:15 a.m., there will be a presentation and discussion on the impact of the Imagination Library for early literacy. Following that session, from 11:15-11:45, members will have open discussion time. From 11:45 a.m. to 1:30 p.m., the Governing Board will receive a briefing from and discuss Artificial Intelligence (AI) and education with John Bailey, Senior Fellow, American Enterprise Institute. From 1:30 p.m. to 2 p.m., the Governing Board will receive reports from each standing committee. The final session of the March 1, 2024, meeting will be a closed session from 2 p.m. to 3 p.m., during which the Governing Board will receive a briefing and discuss the content of the Long-Term Trend Assessment, including reviewing assessment items. This session must be closed because the items have not been released to the public. Public disclosure of this confidential information would significantly impede implementation of the NAEP assessment program if conducted in open session. Such matters are protected by exemption 9(B) of the Government Sunshine Act, 5 U.S.C. 552b(c). The meeting will adjourn at 3 p.m.

Instructions for Accessing and Attending the Meetings

Registration: Members of the public may attend the February 29 and March 1, 2024, meetings of the full Governing Board either in person or virtually. A link to the final meeting agenda and information on how to register for virtual attendance for the open sessions will be posted on the Governing Board's website, www.nagb.gov, no later than five (5) business days prior to the meeting. Registration is required to join the meeting virtually.

Public Comment: Written comments related to the work of the Governing Board and its standing committees may be submitted to the attention of the DFO no later than ten (10) business days prior to the meeting. Written comments may be submitted either via email to Angela.Scott@ed.gov or in hard copy to the address listed above. Written comments should reference the relevant agenda item.

Access to Records of the Meeting: Pursuant to 5 U.S.C. 1009, the public may inspect the meeting materials, which will be posted no later than five (5) business days prior to each meeting, at www.nagb.gov. The public may also inspect the meeting materials and other Governing Board records at 800 North Capitol Street NW, Suite 825, Washington, DC 20002, by emailing Angela.Scott@ed.gov to schedule an appointment. The official verbatim transcripts of the open meeting sessions will be available for public inspection no later than 30 calendar days following each meeting and will be posted on the Governing Board's website. Requests for the verbatim transcriptions may be made via email to the DFO.

Reasonable Accommodations: The meeting location is accessible to individuals with disabilities. If you will need an auxiliary aid or service to participate in the meeting (e.g., interpreting service, assistive listening device, or materials in an alternate format), notify the DFO listed in this notice no later than ten working days prior to each meeting date.

Electronic Access to this Document: The official version of this document is the document published in the Federal Register. Internet access to the official edition of the Federal Register and the Code of Federal Regulations is available via the Federal Digital System at: www.gpo.gov/fdsys. At this site you can view this document, as well as all other documents of this Department published in the Federal Register, in text or Adobe Portable Document Format (PDF). To use PDF, you must have Adobe Acrobat Reader, which is available free at the Adobe website. You may also access documents of the Department published in the Federal Register by using the article search feature at: www.federalregister.gov. Specifically, through the advanced search feature at this site, you can limit your search to documents published by the Department.

Authority: Pub. L. 107-279, title III, section 301—National Assessment of Educational Progress Authorization Act (20 U.S.C. 9621).

Lesley Muldoon,
Executive Director, National Assessment Governing Board (NAGB), U.S. Department of Education.

[FR Doc. 2024-03096 Filed 2-14-24; 8:45 am]

BILLING CODE 4000-01-P